DEPARTMENT OF HOUSING AND URBAN DEVELOPMENT

[Docket No. FR-5639-N-03]

Notice of Regulatory Waiver Requests Granted for the Third Quarter of Calendar Year 2012

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2012, and ending on September 30, 2012.

FOR FURTHER INFORMATION CONTACT: For general information about this notice, contact Camille E. Acevedo, Associate General Counsel for Legislation and Regulations, Department of Housing and Urban Development, 451 7th Street SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the third quarter of calendar year 2012.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2012 through September 30, 2012. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2012) before the next report is published (the fourth quarter of calendar year 2012), HUD will include any additional waivers granted for the third quarter in the next report.

Accordingly, information about approved waiver requests pertaining to HUD regulations is provided in the Appendix that follows this notice.

Dated: November 27, 2012.
Helen R. Kanovsky,
General Counsel.

Appendix—

Listing of Waivers of Regulatory Requirements Granted by Offices of the Department of Housing and Urban Development July 1, 2012 through September 30, 2012

Note to Reader: More information about the granting of these waivers, including a copy of the waiver request and approval, may be obtained by contacting the person whose name is listed as the contact person directly after each set of regulatory waivers granted.

The regulatory waivers granted appear in the following order:

I. Regulatory Waivers Granted by the Office of Community Planning and Development.

II. Regulatory Waivers Granted by the Office of Housing.

III. Regulatory Waivers Granted by the Office of Public and Indian Housing.

I. Regulatory Waivers Granted by the Office of Community Planning and Development

For further information about the following regulatory waivers, please see the name of the contact person that immediately follows the description of the waiver granted.

• Regulation: 24 CFR 58.22(a).

Project/Activity: Muskegon County, Michigan, requested a waiver of 24 CFR 58.22(a) for some NSP2 activities in the City of Muskegon. The proposed project was the rehabilitation of single family housing. A waiver was needed because the grantee committed non-HUD funds to acquire several properties prior to the approval of the environmental review as well as prior to the submission and HUD approval of the Request for Release of Funds (RROF).

Nature of Requirement: The HUD environmental regulation under 24 CFR 58.22(a) pertaining to limitations on activities pending clearance require: “Neither a recipient nor any participant in the development process, including public or private nonprofit or for-profit entities, or any of their contractors, may commit HUD assistance under a program listed in 24 CFR 58.1(b) on an activity or project until HUD or the state has approved the recipient's Request for Release of Funds (RROF) and the related certification from the responsible entity. In addition, until the RROF and the related certification have been approved, neither a recipient nor any participant in the development process may commit non-HUD funds on or undertake an activity or project under a program listed in 24 CFR 58.1(b) if the activity or project would have an adverse environmental impact or limit the choice of reasonable alternatives.”

Granted By: Mark Johnston, Acting Assistant Secretary for Community Planning and Development.

Date Granted: August, 22, 2012.

Reason Waived: The project at issue was determined to be one that would further the HUD mission and advance HUD program goals to develop viable, quality communities and affordable housing. It was also determined that the grantee unknowingly violated the regulation, but that no HUD funds had been committed at the time of the violation. Based on the environmental assessments and the HUD field inspection, it was determined that granting the waiver would not result in any unmitigated, adverse environmental impact.

Contact: James Potter, Office of Environment and Energy, Office of Community Planning and Development, Department of Housing and Urban Development, 451 Seventh Street SW., Room 7248, Washington, DC 20410, telephone (202) 708-4225.

• Regulation: 24 CFR 91.15(a)(2).

Project/Activity: The City of East St. Louis, Illinois requested a waiver of 24 CFR 91.15(a)(2), in order to obtain an extension, for a period of 60 days, of the City's submission deadline for its Fiscal Year (FY) 2012 Annual Action Plan.

Nature of Requirements: The Consolidated Plan regulation at 24 CFR 91.15(a)(2) requires a participating jurisdiction to submit its Annual Action Plan no later than August 16 of the Federal fiscal year for which grant funds were appropriated.

Granted By: Mark Johnston, Acting Assistant Secretary for Community Planning and Development.

Date Granted: August 7, 2012.

Reasons Waived: The City of East St. Louis had relinquished its entitlement status under the Community Development Block Grant (CDBG) program and joined the St. Clair Urban County for FY 2012. Because the City relinquished its CDBG entitlement status after the September 30 statutory deadline for inclusion of CDBG entitlement grantees in the HOME Investment Partnerships Program (HOME) formula for the next fiscal year, the City was not considered part of the St. Clair County Urban County for purposes of allocation of FY 2012 HOME funds. The City did not understand that it remained a separate participating jurisdiction for the HOME program and, consequently, did not take the necessary steps to develop an Annual Action Plan for its FY 2012 HOME funds. By the time the City realized its predicament, the City could not meet the citizen participation requirements and submit its FY 2012 Annual Action Plan by the August 16, 2012, submission deadline. For these reasons, HUD granted the waiver.

Contact: Virginia Sardone, Office of Affordable Housing, Office of Community Planning and Development, Department of Housing and Urban Development, 451 Seventh Street SW., Room 7164, Washington, DC 20410, telephone (202) 708-2684.

• Regulation: 24 CFR 92.503(b)(3).

Project/Activity: Each of the following cities requested a waiver of the repayment provision at 24 CFR 92.503(b)(3) so that the city could repay its HOME investment trust fund local account and use the repaid funds for eligible affordable housing activities: Washington, DC, City of Durham, North Carolina, City of Rochester, New York and City of Utica, New York.

Nature of Requirements: The HOME funds repayment provision at 24 CFR 92.503(b)(3) states: “If the HOME funds were disbursed from the participating jurisdiction's HOME Investment Trust Fund Treasury account, they must be repaid to the Treasury account. If the HOME funds were disbursed from the participating jurisdiction's HOME Investment Trust Fund local account, they must be repaid to the local account.”

Granted By: Mark Johnston, Acting Assistant Secretary for Community Planning and Development.

Date Granted: July through September, 2012.

Reasons Waived: Waivers were granted to permit the cities to repay their HOME investment trust fund local account to make the funds available for eligible affordable housing activities. The cities were obligated to repay HOME funds for projects that were terminated before completion to the HOME grant from which they were expended. If all or a portion of the total repayment was repaid to an expired account, the repayment would have been received by HUD but retained by the U.S. Treasury. As a result, the repaid funds would have no longer been available for the cities to use in eligible affordable housing activities. The waivers were granted to permit the cities' to repay their local HOME Investment Trust Fund accounts instead of their HOME Investment Trust Treasury accounts and make the repaid funds available for investment in additional HOME-eligible activities.

Contact: Virginia Sardone, Office of Affordable Housing, Office of Community Planning and Development, Department of Housing and Urban Development, 451 Seventh Street SW., Room 7164, Washington, DC 20410, telephone (202) 708-2684.

• Regulation: 24 CFR 570.308(a)(1).

Project/Activity: Because of the difficulties experienced by the village of Bolingbrook, Illinois (“the village”), with regard to its capacity to administer its CDBG program, the village received several findings. Therefore, the village and Will County, where the village is located, determined that permitting the county to administer the village's CDBG program would alleviate the village's difficulties in this regard. In September 2012, the village and county submitted a request to HUD to permit Bolingbrook to be included in Will County s CDBG program during FY 2013 and FY 2014 for the purpose of planning and implementing a joint housing and community development program.

Nature of Requirement: HUD's regulation at 24 CFR 570.308(a)(1) states that a joint request shall only be considered if submitted at the time an urban county is seeking a three year qualification or requalification as an urban county. Will County re-qualified in FY 2011 for FYs 2012-2014, and will not re-qualify until FY 2014.

Granted By: Mark Johnston, Acting Assistant Secretary for Community Planning and Development.

Date Granted: September 24, 2012.

Reason Waived: 24 CFR 570.308(a)(1) was waived so that Will County and the village of Bolingbrook would be permitted to enter into a joint agreement for FY 2013 and FY 2014.

Contact: Gloria Coates, Office of Block Grant Assistance, Entitlement Communities Division, Office of Community and Planning Development, Department of Housing and Urban Development, 451 Seventh Street SW., Room 7282, Washington, DC 20410, telephone (202) 708-1577.

• Regulation: Section II.F. of the May 4, 2009, Federal Register notice, “Notice of Program Requirements for Community Development Block Grant Program Funding under the American Recovery and Reinvestment Act of 2009.” Funding under this notice is referred to as CDBG-R funding.

Project/Activity: Recent natural disasters negatively affected some grantees' ability to complete CDBG-R funded activities, and thus their ability to expend all of their CDBG-R funds by the September 30 deadline for expending funds. Nineteen grantees in nine states received Major Disaster Declarations issued by the President since July 1, 2012, and had not drawn down 100 percent of their CDBG-R funds or had not completed their CDBG-R program activities. Completion of Wayne County, Michigan's CDBG-R funded activity was delayed when misunderstandings concerning the applicability of program requirements delayed processing of an amendment to the county's Action Plan, leaving insufficient time for the county to complete its activity.

Nature of Requirement: Title XII of Division A of the American Recovery and Reinvestment Act of 2009 (Pub. L. 111-005, approved February 17, 2009) (the Recovery Act) appropriated $1 billion to carry out the Community Development Block Grant (CDBG) program under Title I of the Housing and Community Development Act of 1974 (42 U.S.C. 5301, et seq.) on an expedited basis. HUD established the CDBG-R program requirements in a May 4, 2009 Federal Register notice. Section II.F. of that Notice required that grantees expend their entire allocation of CDBG-R funds by September 30, 2012. The Notice also specified that any funds not expended by September 30, 2012, will be recaptured by HUD and returned to the U.S. Treasury.

Granted By: Mark Johnston, Acting Assistant Secretary for Community Planning and Development.

Date Granted: September 28, 2012.

Reason Waived: The September 30, 2012 expenditure deadline in Section II.F. of the May 4, 2009, Federal Register notice was waived to allow the 19 grantees that suffered the effects of recent major disasters an additional 30 days to finish expending their CDBG-R funds. This same provision was waived to allow Wayne County, Michigan an additional 90 days to finish expending its CDBG-R funds.

Contact: Steve Johnson, Office of Block Grant Assistance, Entitlement Communities Division, Office of Community Planning and Development, Department of Housing and Urban Development, 451 Seventh Street SW., Room 7282, Washington, DC 20410, telephone (202) 708-1577.

• Regulation: Section II.H.3.F of the Neighborhood Stabilization Program (NSP) 3 Notice, published on October 19, 2010, at 75 FR 64333 (NSP3 Notice), in accordance with Title XII of Division A under the heading Community Planning and Development: Community Development Fund of the American Recovery and Reinvestment Act of 2009.

Project/Activity: The city of Dearborn, Michigan requested a waiver of the 10 percent demolition cap under NSP which restricts grantees from spending more than 10 percent of total grant funds on demolition activities. The city of Dearborn requested a waiver to spend $256,839 or approximately 25 percent of its NSP3 allocation on demolition of blighted structures.

Nature of Requirement: Section II.H.3.F of the NSP3 Notice provides that a grantee may not use more than ten percent of its grant for demolition activities.

Granted By: Mark Johnston, Acting Assistant Secretary for Community Planning and Development.

Date Granted: July 25, 2012.

Reason Waived: The City provided statistical data evidencing high vacancy and abandonment rates due to significant population and job loss. The City explained that there are a high number of properties requiring immediate demolition to remove safety hazards and the destabilizing influence of the blighted properties.

Contact: Jessie Handforth Kome, Deputy Director, Office of Block Grant Assistance, Office of Community Planning and Development, Department of Housing and Urban Development, 451 Seventh Street SW., Room 7286, Washington, DC 20410, telephone (202) 402-5539.

• Regulation: Section II.H.3.F of the Neighborhood Stabilization Program (NSP) 3 Notice, published on October 19, 2010, at 75 FR 64333 (NSP3 Notice), in accordance with Title XII of Division A under the heading Community Planning and Development: Community Development Fund of the American Recovery and Reinvestment Act of 2009.

Project/Activity: The city of Gary, Indiana requested a waiver of the 10 percent demolition cap under NSP which restricts grantees from spending more than 10 percent of total grant funds on demolition activities. The city of Gary requested a waiver to spend $815,358 or approximately thirty percent of its NSP3 allocation on demolition of blighted structures.

Nature of Requirement: Section II.H.3.F of the NSP3 Notice provides that a grantee may not use more than ten percent of its grant for demolition activities.

Granted By: Mark Johnston, Acting Assistant Secretary for Community Planning and Development.

Date Granted: August 7, 2012.

Reason Waived: The City provided statistical data evidencing high vacancy and abandonment rates due to significant population and job loss. With the additional funds, the City advised that it would target the University Park neighborhood where there are a high number of properties requiring immediate demolition to remove safety hazards and the destabilizing influence of the blighted properties.

Contact: Jessie Handforth Kome, Deputy Director, Office of Block Grant Assistance, Office of Community Planning and Development, Department of Housing and Urban Development, 451 Seventh Street SW., Room 7286, Washington, DC 20410, telephone (202) 402-5539.

• Regulation: Section II.H.3.F of the Neighborhood Stabilization Program (NSP) 3 Notice, published on October 19, 2010, at 75 FR 64333 (NSP3 Notice), in accordance with Title XII of Division A under the heading Community Planning and Development: Community Development Fund of the American Recovery and Reinvestment Act of 2009.

Project/Activity: The city of Houston, Texas requested a waiver of the 10 percent demolition cap under NSP which restricts grantees from spending more than 10 percent of total grant funds on demolition activities. The city of Houston requested a waiver to spend $1,000,000 or approximately 29 ½ percent of its NSP3 allocation on demolition of blighted structures.

Nature of Requirement: Section II.H.3.F of the NSP3 Notice provides that a grantee may not use more than ten percent of its grant for demolition activities.

Granted By: Mark Johnston, Acting Assistant Secretary for Community Planning and Development.

Date Granted: August 10, 2012.

Reason Waived: The City provided statistical data evidencing high numbers of blighted and condemned properties. The City explained that the ability to use additional NSP funds for demolition will allow for the removal of blighted housing units which will help stabilize neighborhoods by eliminating safety concerns, reducing crime, and increasing the feasibility for future development and community investment.

Contact: Jessie Handforth Kome, Deputy Director, Office of Block Grant Assistance, Office of Community Planning and Development, Department of Housing and Urban Development, 451 Seventh Street SW., Room 7286, Washington, DC 20410, telephone (202) 402-5539.

II. Regulatory Waivers Granted by the Office of Housing—Federal Housing Administration (FHA)

For further information about the following regulatory waivers, please see the name of the contact person that immediately follows the description of the waiver granted.

• Regulation: 24 CFR 203.43f(c)(i) and 24 CFR 203.43f (d)(ii).

Project/Activity: Title II manufactured homes located within a Federal Emergency Management Agency (FEMA) designated Special Flood Hazard Area (SFHA) in the State of Louisiana.

Nature of Requirement: The applicable regulations state that the finished grade beneath both new and existing manufactured homes shall be at or above the 100 year return frequency flood elevation.

Granted By: Carol J. Galante, Acting Assistant Secretary for Housing-Federal Housing Commissioner.

Date Granted: July 24, 2012.

Reason Waived: Failure to extend the waiver would interrupt the sale of manufactured housing in the State of Louisiana, which is located in a FEMA designated SFHA, as such homes would be forced to comply with a more onerous and costly flood hazard requirement or may not qualify for FHA insured financing without the waiver.

Contact: Peter Gillispie, Office of Single Family Program Development, Office of Housing, Department of Housing and Urban Development, 451 Seventh Street SW., Room 9270, Washington, DC 20410, telephone (202) 402-3000.

• Regulation: 24 CFR 219.220(b) (1995 CFR edition).

Project/Activity: Asbury Harris Epworth Towers, Atlanta, Georgia—FHA Project Number 061-44803. The property consists of 160 one-bedroom units for the elderly and handicapped and is in dire need of rehabilitation. The owner is unable to rehabilitate the property and repay the Flexible Subsidy loan at the time the loan matures.

Nature of Requirement: HUD's regulation at 24 CFR 219.220(b), which governs the repayment of operating assistance provided under the Flexible Subsidy Program for Troubled Projects prior to May 1, 1996, states: “Assistance that has been paid to a project owner under this subpart must be repaid at the earlier of the expiration of the term of the mortgage, termination of these actions would typically terminate FHA involvement with the property, and the Flexible Subsidy loan would be repaid, in whole, at that time.”

Granted by: Carol J. Galante, Acting Assistant Secretary for Housing-Federal Housing Commissioner.

Date Granted: August 21, 2012.

Reason Waived: The owner requested and was granted waiver of the requirement to defer repayment of the Flexible Subsidy Operating Assistance Loan because the project does not have sufficient funds to repay the loan upon maturity. This waiver will allow the owner of Asbury Harris Epworth Towers to refinance their loan and address the health and safety issues at the property. There is an overwhelming demand for elderly affordable housing in Atlanta. This waiver will allow the project to be preserved as affordable housing for an additional 20 years through execution and recordation of a Rental Use Agreement.

Contact: Mark B. Van Kirk, Director, Office of Asset Management, Office of Housing, Department of Housing and Urban Development, 451 Seventh Street SW., Room 6160, Washington, DC 20410, telephone (202) 708-3730.

• Regulation: 24 CFR 219.220(b)(1995).

Project/Activity: Bethel Apartments, Alexandria, Louisiana—FHA Project Number 059-35027. The 90-unit project is in need of urgent repairs. The owner is unable to make the necessary repairs and repay the Flexible Subsidy Loan upon maturity.

Nature of Requirement: HUD's regulation at 24 CFR 219.220(b), which governs the repayment of operating assistance provided under the Flexible Subsidy Program for Troubled Projects prior to May 1, 1996, states: “Assistance that has been paid to a project owner under this subpart must be repaid at the earlier of the expiration of the term of the mortgage, termination of these actions would typically terminate FHA involvement with the property, and the Flexible Subsidy loan would be repaid, in whole, at that time.”

Granted by: Carol J. Galante, Acting Assistant Secretary for Housing-Federal Housing Commissioner.

Date Granted: August 21, 2012.

Reason Waived: The owner requested and was granted waiver of the requirement to defer repayment of the Flexible Subsidy Operating Assistance Loan because the owner had insufficient funds available to repay the loan upon maturity. It was determined that waiver of this regulation would allow for a refinance of the loan which will provide mortgage proceeds necessary for the recapitalization and substantial rehabilitation of the project and the preservation of the project's 90 units as affordable housing. The owner will be required to execute and record a Rental Use Agreement for the 40-year term of the re-amortized Flexible Subsidy Loan.

Contact: Mark B. Van Kirk, Director, Office of Asset Management, Office of Housing, Department of Housing and Urban Development, 451 Seventh Street SW., Room 6160, Washington, DC 20410, telephone (202) 708-3730.

• Regulation: 24 CFR 219.220(b)(1995).

Project/Activity: Westlake Christian Terrace East, Oakland, California—FHA Project Number 121-SH054. The 200-unit affordable housing project for the elderly is in dire need of redevelopment. The owner is unable to rehabilitate the property and repay the Flexible Subsidy Loan in full upon maturity.

Nature of Requirement: HUD's regulation at 24 CFR 219.220(b), which governs the repayment of operating assistance provided under the Flexible Subsidy Program for Troubled Projects prior to May 1, 1996, states: “Assistance that has been paid to a project owner under this subpart must be repaid at the earlier of the expiration of the term of the mortgage, termination of these actions would typically terminate FHA involvement with the property, and the Flexible Subsidy loan would be repaid, in whole, at that time.”

Granted by: Carol J. Galante, Acting Assistant Secretary for Housing-Federal Housing Commissioner.

Date Granted: August 31, 2012.

Reason Waived: The owner requested and was granted waiver of the requirement to defer repayment of the Flexible Subsidy Operating Assistance Loan because the owner had insufficient funds available to both repay the loan upon maturity and rehabilitate the property. It was determined that waiver of this regulation would allow refinancing to recapitalize the property and preserve the 200 units of much-needed affordable housing through execution and recordation of a Rental Use Agreement. The property will be preserved for a period of an additional 35 years as affordable housing.

Contact: Mark B. Van Kirk, Director, Office of Asset Management, Office of Housing, Department of Housing and Urban Development, 451 Seventh Street SW., Room 6160, Washington, DC 20410, telephone (202) 708-3730.

• Regulation: 24 CFR 219.220(b)(1995).

Project/Activity: Coronado Gardens Cooperative, Lansing, Michigan—FHA Project Number 047-44008. The 64-unit family project is in need of repair. The owner is unable to make the needed repairs and repay the Flexible Subsidy Operating Assistance Loans at maturity.

Nature of Requirement: HUD's regulation at 24 CFR 219.220(b), which governs the repayment of operating assistance provided under the Flexible Subsidy Program for Troubled Projects prior to May 1, 1996, states: “Assistance that has been paid to a project owner under this subpart must be repaid at the earlier of the expiration of the term of the mortgage, termination of these actions would typically terminate FHA involvement with the property, and the Flexible Subsidy loan would be repaid, in whole, at that time.”

Granted by: Carol J. Galante, Acting Assistant Secretary for Housing-Federal Housing Commissioner.

Date Granted: September 4, 2012.

Reason Waived: The owner requested and was granted waiver of the requirement to defer repayment of the Flexible Subsidy Operating Assistance Loan because the owner had insufficient funds available to repay the loan upon maturity. It was determined that waiver of this regulation was necessary for recapitalization of the project to permit needed repairs to be made at the property. The deferment will preserve this much-needed affordable housing for a period of an additional 35 years through execution and recordation of a Rental Use Agreement.

Contact: Mark B. Van Kirk, Director, Office of Asset Management, Office of Housing, Department of Housing and Urban Development, 451 Seventh Street SW., Room 6160, Washington, DC 20410, telephone (202) 708-3730.

• Regulation: 24 CFR 232.3.

Project/Activity: Autumn Leaves at Arlington (Autumn Leaves) is an assisted living facility and has a license for 43 beds in 34 units. Currently, Autumn Leaves operates 43 memory care beds. The project is located in Arlington, TX.

Nature of Requirement: HUD's regulation at 24 CFR 232.3 mandates that in a board and care home or assisted living facility, not less than one full bathroom must be provided for every four residents. Also, the bathroom cannot be accessed from a public corridor or area.

Granted By: Carol J. Galante, Acting Assistant Secretary for Housing—Federal Housing Commissioner.

Date Granted: August 1, 2012.

Reason Waived: HUD granted the waiver because the memory care residents of Autumn Leaves are assisted and supervised, while bathing. The bathing/shower rooms are specifically designed to provide enough space for staff to safely assist the residents.

Contact: Vance T. Morris, Special Assistant, Office of Healthcare Programs, Office of Housing, Department of Housing and Urban Development, 451 Seventh Street SW., Room 9172 Washington, DC 20410, telephone (202) 402-2419.

• Regulation: 24 CFR 232.3.

Project/Activity: Century Assisted Living has a license for 26 Alzheimer units and operates in two separate buildings, Building A and Building B. The waiver is for Building A. The project is located in Carbondale, IL.

Nature of Requirement: HUD's regulation at 24 CFR 232.3 mandates in a board and care home or assisted living facility that the bathroom cannot be accessed from a public corridor or area.

Granted By: Carol J. Galante, Acting Assistant Secretary for Housing—Federal Housing Commissioner.

Date Granted: August 1, 2012.

Reason Waived: HUD granted the waiver because it was determined that certain residents of Century Assisted Living's Building A are more acute and need assistance and supervision while bathing. Century Assisted Living has concluded that this arrangement is safer for the residents. In addition, there is insufficient space in Building A to convert its existing half bathroom rooms to full bathrooms.

Contact: Vance T. Morris, Special Assistant, Office of Healthcare Programs, Office of Housing, Department of Housing and Urban Development, 451 Seventh Street SW., Room 9172, Washington, DC 20410, telephone (202) 402-2419.

• Regulation: 24 CFR 232.3.

Project/Activity: The Lodge at Eskaton Village (Eskaton Village) has a license for 74 beds in 64 units. Currently, Eskaton Village operates 40 assisted living units for 40 residents and 24 dementia care units for 24 residents.

Nature of Requirement: HUD's regulation at 24 CFR 232.3 mandates in a board and care home or assisted living facility that the bathroom cannot be accessed from a public corridor or area.

Granted By: Carol J. Galante, Acting Assistant Secretary for Housing—Federal Housing Commissioner.

Date Granted: August 1, 2012.

Reason Waived: HUD granted the waiver on the basis that the residents of Eskaton Village's dementia care wing are fully assisted and supervised while bathing. For safety reasons, the 24 dementia care residents use two shower rooms and a tub room for bathing. This allows for staff to provide assistance to the residents. Eskaton Village also concluded that this arrangement is safer for the residents.

Contact: Vance T. Morris, Special Assistant, Office of Healthcare Programs, Office of Housing, Department of Housing and Urban Development, 451 Seventh Street SW., Room 9172, Washington, DC 20410, telephone (202) 402-2419.

• Regulation: 24 CFR 232.3.

Project/Activity: Country House—Dickinson (Country House) is an assisted living facility and has a license for 30 beds in 22 units. Currently, Country House serves Alzheimer Care residents. The project is located in Dickinson, North Dakota.

Nature of Requirement: HUD's regulation at 24 CFR 232.3 mandates in a board and care home or assisted living facility that the bathroom cannot be accessed from a public corridor or area.

Granted By: Carol J. Galante, Acting Assistant Secretary for Housing—Federal Housing Commissioner.

Date Granted: September 28, 2012.

Reason Waived: HUD granted the waiver on the basis that the Alzheimer Care residents of Country House all need assistance with bathing. The bathing/shower rooms provide enough space for staff to safely assist the residents. Country House has concluded that this arrangement is safer for the residents.

Contact: Vance T. Morris, Special Assistant, Office of Healthcare Programs, Office of Housing, Department of Housing and Urban Development, 451 Seventh Street SW., Room 9172, Washington, DC 20410, telephone (202) 402-3000, telephone (202) 402-2419.

• Regulation: Mortgagee Letter 2011-22, Condominium Approval Process for Single Family Housing—Consolidation and Update of Approval Requirements.

Project/activity: Properties eligible for FHA-insured mortgages.

Nature of Requirement: Mortgagee Letter 2011-22 and the attached Condominium Project Approval and Processing Guide consolidated and updated the requirements and procedures that constitute the Condominium Approval Process.

Granted By: Carol J. Galante, Acting Assistant Secretary for Housing—Federal Housing Commissioner.

Date Granted: September 13, 2012.

Reason Waived: By Mortgagee Letter 2012-18, issued September 13, 2012, HUD waived certain provisions of Mortgagee Letter 2011-22 and put in place temporary condominium approval policy provisions. HUD determined that certain policy adjustments were temporarily needed to address current housing market conditions.

Contact: Joanne B. Kuczma, Director, Home Mortgage Insurance Division, Office of Housing, Department of Housing and Urban Development, 451 Seventh Street SW., Room 9278, Washington, DC 20410-8000, telephone (202) 708-4308.

• Regulation: 24 CFR 891.100(d).

Project/Activity: Renaissance Gardens, Baltimore, MD, Project Number: 052-EE065/MD06-S101-002.

Nature of Requirement: Section 891.100(d) prohibits amendment of the amount of the approved capital advance funds prior to closing.

Granted by: Carol J. Galante, Acting Assistant Secretary for Housing-Federal Housing Commissioner.

Date Granted: July 12, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d).

Project/Activity: Reliable Housing Apartments, Beaver Falls, PA, Project Number: 033-HD115/PA28-Q091-005.

Nature of Requirement: Section 891.100(d) prohibits amendment of the amount of the approved capital advance funds prior to closing.

Granted by: Carol J. Galante, Acting Assistant Secretary for Housing-Federal Housing Commissioner.

Date Granted: July 17, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d).

Project/Activity: Ashlawn View Group Home, Danville, VA, Project Number: 051-HD147/VA36-Q091-003.

Nature of Requirement: Section 891.100(d) prohibits amendment of the amount of the approved capital advance funds prior to closing.

Granted by: Carol J. Galante, Acting Assistant Secretary for Housing-Federal Housing Commissioner.

Date Granted: August 3, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d).

Project/Activity: Dogwood Manor Apartments, Oak Ridge, TN, Project Number: 087-EE073/TN37-S101-002.

Nature of Requirement: Section 891.100(d) prohibits amendment of the amount of the approved capital advance funds prior to closing.

Granted by: Carol J. Galante, Acting Assistant Secretary for Housing-Federal Housing Commissioner.

Date Granted: September 17, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d).

Project/Activity: Arlington II Nonprofit Housing Corporation, Baltimore, MD,

Project Number: 052-EE064/MD06-S101-001.

Nature of Requirement: Section 891.100(d) prohibits amendment of the amount of the approved capital advance funds prior to closing.

Granted by: Carol J. Galante, Acting Assistant Secretary for Housing-Federal Housing Commissioner.

Date Granted: September 17, 2012.

Reason Waived: The project is economically designed and comparable in cost to similar projects in the area, and the sponsor/owner exhausted all efforts to obtain additional funding from other sources.

Contact: Catherine M. Brennan, Director, Office of Housing Assistance and Grant Administration, Office of Housing, Department of Housing and Urban Development, 451 Seventh Street SW., Room 6138, Washington, DC 20410, telephone (202) 708-3000.

• Regulation: 24 CFR 891.100(d) and 24 CFR 891.165.

Project/Activity: Hale Maunaloa Residence, Maunaloa, HI, Project Number: 140-HD034/HI10-Q091-001.

Nature of Requirement: Section 891.100(d) prohibits amendment of the amount of the approved capital advance funds prior to closing. Section 891.165 provides that the duration of the fund reservation of the capital advance is 18 months from the date of issuance with limited exceptions up to 24 months, as approved by HUD on a case-by-case basis.

Granted by: Carol J. Galante, Acting Assistant Secretary for Housing-Federal Housing Commissioner.

Date Granted: September 11, 2012.

Reason Waived: The project is economically designed and comparable in cost to similar projects in the area, and the sponsor/owner exhausted all efforts to obtain additional funding from other sources. Also, additional time was needed to review the project proposal, the drawings for accessibility compliance and the contract bidding requirements for the project to achieve an initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Roeser Haciendas Senior Housing, Phoenix, AZ,

Project Number: 123-EE107/AZ20-S081-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: July 12, 2012.

Reason Waived: Additional time was needed for the project to achieve initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Coretta Scott King Apartments, Brooklyn, NY, Project Number: 012-EE356/NY36-S071-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: July 12, 2012.

Reason Waived: Additional time was needed to process and issue the firm commitment and for the project to reach an initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Jubilee Station, Charleston, WV, Project Number: 045-HD045/WV15-Q091-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: July 18, 2012.

Reason Waived: Additional time was needed to issue the firm commitment.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Spruce Manor, Huntington, WV, Project Number: 045-HD044/WV15-Q091-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 3, 2012.

Reason Waived: Additional time was needed to reach initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Franklin Senior Housing, Inc., Franklin, WI, Project Number: 075-EE145/WI39-S091-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 3, 2012.

Reason Waived: Additional time was needed to reach initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Broadwater Place Apartments, St. Petersburg, FL, Project Number: 067-HD102/FL29-Q091-005.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 3, 2012.

Reason Waived: Additional time was needed to issue the firm commitment and for the project to be initially closed.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: CPNJ Livingston Residence, Livingston, NJ, Project Number: 031-HD157/NJ39-Q081-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 3, 2012.

Reason Waived: Additional time was needed to reach initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Beechtree Commons II, Verona, PA, Project Number: 033-EE142/PA28-S091-005.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 3, 2012.

Reason Waived: Additional time was needed to complete the review of the initial closing documents and for the project to reach an initial closing.

Contact: Catherine M. Brennan, Director, Office of Housing Assistance and Grant Administration, Office of Housing, Department of Housing and Urban Development, 451 Seventh Street SW., Room 6138, Washington, DC 20410, telephone (202) 708-3000.

Regulation: 24 CFR 891.165.

Project/Activity: Silverwood Apartments, Tucson, AZ, Project Number: 123-EE113/AZ20-S091-004.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 3, 2012.

Reason Waived: Additional time was needed for the sponsor/owner to resolve issues raised by the City of Tucson regarding final plans and specifications requirements for a paved access and new easements for the project.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Accorn Walk (Franklin Foundation), Kettering, OH,

Project Number: 046-EE101/OH10-S091-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 13, 2012.

Reason Waived: Additional time was needed for the sponsor/owner to obtain the proper zoning and site approval from the local authority.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: FSWP GL V, Leesburg, PA, Project Number: 033-HD112/PA28-Q091-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 13, 2012.

Reason Waived: Additional time was needed to reach initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Mercy Auburn Senior Apartments, Auburn, CA, Project Number: 136-EE086/CA30-S091-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 13, 2012.

Reason Waived: Additional time was needed to reach initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Advance Housing 2009, Lafayette, NJ, Project Number: 031-HD162/NJ39-Q091-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 20, 2012.

Reason Waived: Additional time was needed to reach an initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: The Village at Oasis Park II, Mesa, AZ, Project Number: 123-HD046/AZ20-Q091-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 20, 2012.

Reason Waived: Additional time was needed to reach initial closing and start construction.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Tecumseh Road Senior Apartments, Dewitt, NY, Project Number: 014-EE282/NY06-S091-007.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 20, 2012.

Reason Waived: Additional time was needed to complete processing of the firm commitment application and for the project to be initially closed.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Rockwood Center, Henrietta, NY, Project Number: 014-EE281/NY06-S091-006.

Granted by: Carol J. Galante, Acting Assistant Secretary for Housing-Federal Housing Commissioner.

Date Granted: August 23, 2012.

Reason Waived: Additional time was needed for approval and processing requirements of the various funding sources of this mixed finance project.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Bella Vista Apartments, Tucson, AZ, Project Number: 123-HD045/AZ20-Q091-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: August 23, 2012.

Reason Waived: Additional time was needed to review the firm commitment application, achieve initial closing and start construction.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Fairfield Commons I, Stamford, CT, Project Number: 017-HD042/CT26-Q091-001.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: August 23, 2012.

Reason Waived: Additional time was needed for HUD to issue the firm commitment and for the project to achieve an initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Reliable Housing Apartments, Beaver Falls, PA, Project Number: 033-HD115/PA28-Q091-005.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 4, 2012.

Reason Waived: Additional time was needed to issue the firm commitment, to review the initial closing documents and for the project to reach initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Mohouli Heights Senior Neighborhood, Hilo, HI, Project Number: 140-EE042/HI10-S091-001.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 4, 2012.

Reason Waived: Additional time was needed to reach an initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Nativity B.V.M. Place, Philadelphia, PA, Project Number: 034-EE167/PA26-S091-005.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 7, 2012.

Reason Waived: Additional time was needed for the sponsor/owner to resolve a zoning appeal and for the project to reach an initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Flagship City Apartments, Erie, PA, Project Number: 033-HD114/PA28-Q091-004.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 7, 2012.

Reason Waived: Additional time was needed to issue the firm commitment, review the initial closing documents, and for the project to reach an initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: City of Utica Section 811 Project, Utica, NY, Project Number: 014-HD132/NY06-Q081-001.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 11, 2012.

Reason Waived: Additional time was needed to complete the processing of the firm commitment application and for the project to reach an initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Community Options Hopewell, Inc., Hopewell Borough, NJ,

Project Number: 035-HD073/NJ39-Q091-009.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 11, 2012.

Reason Waived: Additional time was needed to finalize the firm commitment application and for the project to reach an initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: The Woods of Crooked Creek Apartments, Indianapolis, IN,

Project Number: 073-HD087/IN36-Q091-001.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 28, 2012.

Reason Waived: Additional time was needed for the project to reach an initial closing.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Walnut Housing, West Seneca, NY, Project Number: 014-EE269/NY06-S081-001.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 28, 2012.

Reason Waived: The project experienced significant delays due to local opposition causing the site to be changed twice.

Contact: Catherine M. Brennan, Director, Office of Housing Assistance and Grant Administration, Office of Housing, Department of Housing and Urban Development, 451 Seventh Street SW., Room 6138, Washington, DC 20410, telephone (202) 708-3000.

• Regulation: 24 CFR 891.165.

Project/Activity: Kenyon Terrace Apartments, South Kingstown, RI, Project Number: 016-HD063/RI43-Q091-006.

Nature of Requirement: Section 891.165 provides that the duration of the fund reservation of the capital advance is 18 months from the date of issuance with limited exceptions up to 24 months, as approved by HUD on a case-by-case basis.

Granted by: Carol J. Galante, Acting Assistant Secretary for Housing—Federal Housing Commissioner.

Date Granted: September 28, 2012.

Reason Waived: Additional time was needed for the firm commitment application to be submitted and reviewed, and for the project to achieve an initial closing.

Contact: Catherine M. Brennan, Director, Office of Housing Assistance and Grant Administration, Office of Housing, Department of Housing and Urban Development, 451 Seventh Street SW., Room 6138, Washington, DC 20410, telephone (202) 708-3000.

• Regulation: 24 CFR 891.205.

Project/Activity: Beckley House Expansion, Canaan, CT, Project Number: 017-EE116/CT26-S101-004.

Nature of Requirement: Section 891.205 requires Section 202 project owners to be single-purpose private nonprofit organizations.

Granted by: Carol J. Galante, Acting Assistant Secretary for Housing—Federal Housing Commissioner.

Date Granted: August 13, 2012.

Reason Waived: To allow the owner of another Section 202 project to also own this project. The projects are to be on the same site and time and cost savings are anticipated from not having to create a separate owner entity.

Contact: Catherine M. Brennan, Director, Office of Housing Assistance and Grant Administration, Office of Housing, Department of Housing and Urban Development, 451 Seventh Street SW., Room 6138, Washington, DC 20410, telephone (202) 708-3000.

III. Regulatory Waivers Granted by the Office of Public and Indian Housing

For further information about the following regulatory waivers, please see the name of the contact person that immediately follows the description of the waiver granted.

• Regulation: 24 CFR 5.801(d)(1).

Project/Activity: Montana Department of Commerce, (MT901), Helena, MT.

Nature of Requirement: The regulation establishes certain reporting compliance dates. The audited financial statements are required to be submitted to the Real Estate Assessment Center (REAC) no later than nine months after the housing authority's (HA) fiscal year end (FYE), in accordance with HUD's Uniform Financial Reporting Rule.

Granted By: Sandra B. Henriquez, Assistant Secretary for Public and Indian Housing.

Date Granted: September 12, 2012.

Reason Waived: The housing authority (HA) contends that the audit was delayed because the HA's audited is completed through the State Legislative Audit Division. The State did not complete the audit before March 31, 2012, and as a result the HA did not have adequate time to enter the data into REAC's online system. The Section 8 waiver was granted and the additional time permitted the audit documentation to be adequately completed. The HA submitted the FYE June 30, 2011, audited financial information on the May 15, 2012, due date.

Contact: Johnson Abraham, Program Manager, NASS, Real Estate Assessment Center, Office of Public and Indian Housing, Department of Housing and Urban Development, 550 12th Street SW., Suite 100, Washington, DC 20410, telephone (202) 475-8583.

• Regulation: 24 CFR 5.801(d)(1).

Project/Activity: Fort Wayne Housing Authority, (IN003), Fort Wayne, IN.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: August 3, 2012.

Reason Waived: The housing authority (HA) contends that due to transitional difficulties when changing auditors, the audited financial statements could not be submitted by the deadline of March 31, 2012. The HA's original Independent Public Accountant (IPA) was replaced, with Board approval, and the newly hired IPA engagement letter was dated November 17, 2011. The waiver was granted and the additional time permitted the audit documentation for FYE June 30, 2011, to be adequately completed and entered into REAC's online system. The new dew date was set at June 24, 2012. The PHAS audited submission due date waiver is not applicable to Circular A-133 submissions to the Federal Audit Clearinghouse.

Contact: Johnson Abraham, Program Manager, NASS, Real Estate Assessment Center, Office of Public and Indian Housing, Department of Housing and Urban Development, 550 12th Street SW., Suite 100, Washington, DC 20410, telephone (202) 475-8583.

• Regulation: 24 CFR 5.801(d)(1).

Project/Activity: Madisonville Housing Authority, (TX245), Madisonville, TX.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: August 9, 2012.

Reason Waived: The housing authority (HA) contends that because their financial records were seized as a result of an ongoing HUD OIG investigation, the audit cannot be completed by their independent auditors. The waiver was granted and the additional time permitted the audit documentation to be adequately completed and entered into the online system. The HA agreed to submit its FYE September 30, 2011, audited information no later than October 31, 2012.

Contact: Johnson Abraham, Program Manager, NASS, Real Estate Assessment Center, Office of Public and Indian Housing, Department of Housing and Urban Development, 550 12th Street SW., Suite 100, Washington, DC 20410, telephone (202) 475-8583.

• Regulation: 24 CFR 5.801(d)(1).

Project/Activity: District of Columbia, (DC001), Washington, DC.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: August 30, 2012.

Reason Waived: The housing authority (HA) requested additional time to submit its audited financial requirements to allow the newly hired Deputy Assistant Director for Administration to address Independent Public Audit comments. The HA contends that the additional time was needed in order to complete analyses and revisions to comply with regulatory submission deadlines and Asset Management guidelines for Moving To Work agencies. The waiver was granted and the additional time permitted the HA, in conjunction with the auditor, to complete the audit for the FYE September 30, 2011. The HA agreed to submit its FYE September 30, 2011, audited financial information to the REAC no later than July 31, 2012. However, the PHAS audited submission due date waiver is not applicable to Circular A-133 submissions to the Federal Audit Clearinghouse.

Contact: Johnson Abraham, Program Manager, NASS, Real Estate Assessment Center, Office of Public and Indian Housing, Department of Housing and Urban Development, 550 12th Street SW., Suite 100, Washington, DC 20410, telephone (202) 475-8583.

• Regulation: 24 CFR 85.36(c).

Project/Activity: Housing Authority of the City of Shreveport, LA (HACS)

Nature of Requirement: HUD's regulation at 25 CFR 85.36(c) requires that procurement transactions will be conducted in a manner providing full and open competition consistent with the standards of Sec. 85.36.

Granted by: Sandra B. Henriquez, Assistant Secretary for Public and Indian Housing.

Date Granted: September 12, 2012.

Reason Waived: Good cause was found to grant an exception for HACS' processing of the Phase I contract. HACS sought to use its grant under the American Reinvestment and Recovery Act of 2009 (Recovery Act) to expeditiously to ensure the health and safety of its residents at Wilkinson Terrace. The housing authority explained its rationale for amending its Phase I contract in light of the exigency related to the funding and need for mold and mildew remediation at Wilkinson Terrace. There had been no merging or supplanting of Recovery Act funds. The housing authority intended to award the Phase I contract under § 85.36 (c), but failed to complete the procurement in accordance with the Recovery Act procurement procedures and § 85.36. HACS agreed to ensure that the noncompetitive proposals process followed is captured clearly in its amended Capital Fund Stimulus Grant Procurement Policy. HACS also agreed to update its file to document why the contract was awarded noncompetitively, and make such documentation available upon request.

Contact: Dominique Blom, Deputy Assistant Secretary for the Office of Public Housing Investments, Office of Public and Indian Housing, Department of Housing and Urban Development, 451 Seventh Street SW., Room 4130, Washington, DC 20140, telephone (202) 402-4181.

• Regulation: 24 CFR 982.202(b)(1).

Project/Activity: New York City Housing Authority (NYCHA), New York, NY.

Nature of Requirement: HUD's regulation 24 CFR 982.202(b)(1) states that admission to the program may not be based on where the family lives before admission to the program

Granted By: Sandra B. Henriquez, Assistant Secretary for Public and Indian Housing.

Date Granted: September 21, 2012.

Reason Waived: The preference for families discharged from New York City Health and Hospitals Corporation (HHC) facilities addresses local housing needs and priorities—specifically the housing needs of these HHC residents who are in need of supportive services and in danger of becoming homeless without supportive services.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(b)(1).

Project/Activity: Virgin Islands Housing Authority (VIHA).

Nature of Requirement: HUD's regulation at 24 CFR 982.503(b)(1) states that the public housing agency may establish the payment standard amount for a unit size at any level between 90 percent and 110 percent of the published fair market rent (FMR) for that unit size.

Granted By: Sandra B. Henriquez, Assistant Secretary for Public and Indian Housing.

Date Granted: September 7, 2012.

Reason Waived: This waiver was granted because VIHA had been applying payment standards that were above previously approved exception payment standard amounts. To avoid the impact that a drastic cut in subsidy would have on assisted families, VIHA was given a limited time to approve payment standards above the basic range.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(c)(3).

Project/Activity: Dallas Housing Authority (DHA), Dallas TX.

Nature of Requirement: HUD's regulation at 24 CFR 982.503(c)(3) states that at the request of the public housing agency, an exception payment standard above 120 percent of the fair market rent (FMR) may be approved if, among other items, such approval is supported by statistically representative rental housing survey data to justify approval in accordance with the methodology described in 24 CFR 888.113.

Granted By: Sandra B. Henriquez, Assistant Secretary for Public and Indian Housing.

Date Granted: August 20, 2012.

Reason Waived: This waiver was granted based on proposed changes to the methodology for determining small area FMRs and the ZIP code level data used to support those calculations.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(c), 982.503(c)(4)(ii) and 982.503(c)(5).

Project/Activity: Mountrail County Housing Authority (MCHA), Mountrail County, ND.

Nature of Requirement: HUD's 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Sandra B. Henriquez, Assistant Secretary for Public and Indian Housing.

Date Granted: September 10, 2012.

Reason Waived: These waivers were granted because of a shock to the rental housing market in the MCHA FMR area caused by increased economic activity due to natural resource exploration.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(c), 982.503(c)(4)(ii) and 982.503(c)(5).

Project/Activity: Foster County Housing Authority (FCHA), Foster County, ND.

Nature of Requirement: HUD's regulation at 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation 24 CFR 982.503(c)(5) states that the total population of a HUD-approved exception areas in an FMR area may not include more than 50 percent of the population of the FMR area.

Granted By: Sandra B. Henriquez, Assistant Secretary for Public and Indian Housing.

Date Granted: September 12, 2012.

Reason Waived: These waivers were granted because of a shock to the rental housing market in the FCHA FMR area caused by increased economic activity due to natural resource exploration.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(c), 982.503(c)(4)(ii) and 982.503(c)(5).

Project/Activity: Stutsman County Housing Authority (SCHA), Stutsman County, ND.

Nature of Requirement: HUD's regulation at 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Sandra B. Henriquez, Assistant Secretary for Public and Indian Housing.

Date Granted: September 12, 2012.

Reason Waived: These waivers were granted because of a shock to the rental housing market in the SCHA FMR area caused by increased economic activity due to natural resource exploration.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(c), 982.503(c)(4)(ii) and 982.503(c)(5).

Project/Activity: Susquehanna County Housing Authority (SCHA), Susquehanna County, PA.

Nature of Requirement: HUD's regulation at 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Sandra B. Henriquez, Assistant Secretary for Public and Indian Housing.

Date Granted: September 15, 2012.

Reason Waived: These waivers were granted because of a shock to the rental housing market in the SCHA FMR area caused by increased economic activity due to natural resource exploration.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.503(c), 982.503(c)(4)(ii) and 982.503(c)(5).

Project/Activity: McHenry/Pierce County Housing Authority (MPCHA), Pierce County, ND. ND.

Nature of Requirement: HUD's regulation at 24 CFR 982.503(c) establishes the methodology for establishing exception payment standards for an area. HUD's regulation at 24 CFR 503(c)(4)(ii) states that HUD will only approve an exception payment standard amount after six months from the date of HUD approval of an exception payment standard amount above 110 percent to 120 percent of the published fair market rent (FMR). HUD's regulation at 24 CFR 982.503(c)(5) states that the total population of a HUD-approved exception areas in an FMR area may not include more than 50 percent of the population of the FMR area.

Granted By: Sandra B. Henriquez, Assistant Secretary for Public and Indian Housing.

Date Granted: September 28, 2012.

Reason Waived: These waivers were granted because of a shock to the rental housing market caused by increased economic activity in the MPCHA FMR area due to natural resource exploration.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: St. Clair Shores Housing Commission (SCSHC), St. Clair Shores, MI.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 2, 2012.

Reason Waived: This waiver was granted because this cost-saving measure would enable the SCSHC to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Town of Portsmouth Housing Commission (TPHC), Portsmouth, RI.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 2, 2012.

Reason Waived: This waiver was granted because this cost-saving measure would enable the TPHC to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Housing Authority of Douglas County (HADC), Douglas County, OR.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 5, 2012.

Reason Waived: This waiver was granted because this cost-saving measure would enable the HADC to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Madison County Housing Authority (MCHA), Madison County, NC.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 16, 2012.

Reason Waived: This waiver was granted because this cost-saving measure would enable the MCHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Marshall County Housing Authority (MCHA), Marshall County, IN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 16, 2012.

Reason Waived: This waiver was granted because this cost-saving measure would enable the MCHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Smithfield Housing Authority (SHA), Smithfield, RI.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 16, 2012.

Reason Waived: This waiver was granted because this cost-saving measure would enable the SHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Monroe County Housing Authority (MCHA), Monroe County, WI.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 17, 2012.

Reason Waived: This waiver was granted because this cost-saving measure would enable the MCHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Delaware County Housing Authority (DCHA), Delaware County, IN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 26, 2012.

Reason Waived: This waiver was granted because this cost-saving measure would enable the DCHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Housing Authority of the City of Baird (HACB), Baird, TX.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: July 30, 2012.

Reason Waived: This waiver was granted because this cost-saving measure would enable the HACB to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Norfolk Redevelopment and Housing Authority (NRHA), Norfolk, VA.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: August 14, 2012.

Reason Waived: This waiver was granted because this cost-saving measure would enable the NRHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Brownsville Housing Authority (BHA), Brownsville, TN.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: August 30, 2012.

Reason Waived: This waiver was granted because this cost-saving measure would enable the BHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Jackson County Housing Authority (JCHA), Jackson County, IL.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: September 7, 2012.

Reason Waived: This waiver was granted because this cost-saving measure would enable the JCHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3).

Project/Activity: Williamston Housing Authority (WHA), Williamston, NC.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: September 26, 2012.

Reason Waived: This waiver was granted because this cost-saving measure would enable the WHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Willimantic Housing Authority (WHA), Willimantic, CT.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: August 3, 2012.

Reason Waived: The participant, who is disabled, required an exception payment standard to move to a wheelchair-accessible unit. To provide this reasonable accommodation so the client could move to an accessible unit and pay no more than 40 percent of her adjusted income toward the family share, the WHA was allowed to approve an exception payment standard that exceeded the basic range of 90 to 110 percent of the FMR.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Little Rock Housing Authority (LRHA), Little Rock, AR.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: August 20, 2012.

Reason Waived: The spouse of the head of household is disabled and the family required an exception payment standard to move to a new unit that met her health needs. To provide this reasonable accommodation so the client could be assisted in a new unit and pay no more than 40 percent of its adjusted income toward the family share, the LRHA was allowed to approve an exception payment standard that exceeded the basic range of 90 to 110 percent of the FMR.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(c)(3) and 982.517(d).

Project/Activity: Saginaw Housing Commission (SHC), Saginaw, MI.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease. HUD's regulation at 24 CFR 982.517(d) requires a public housing agency (PHA) to use the appropriate utility allowance for the size of the dwelling unit actually leased by the family rather than the family unit size as determined by the PHA subsidy standards and specified on the voucher.

Granted By: Sandra B. Henriquez, Assistant Secretary for Public and Indian Housing.

Date Granted: August 3, 2012.

Reason Waived: These waivers were granted because these cost-saving measures would enable the SHC to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.517(b).

Project/Activity: New York City Department of Housing Preservation and Development (NYCDHPD), New York, NY.

Nature of Requirement: HUD's regulation at 24 CFR 982.517(b) requires that utility allowance schedules must be determined based on the typical costs of utilities and services paid by energy conservative households using normal patterns of consumption for the community as a whole.

Granted By: Sandra B. Henriquez, Assistant Secretary for Public and Indian Housing.

Date Granted: July 26, 2012.

Reason Waived: This waiver was granted to allow NYCDHPD to establish project specific utility allowances at a sub-metered building to ensure the accuracy of typical cost and consumption data of utilities in determining the gross rent.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.517(d).

Project/Activity: Evanston Housing Authority (EHA), Evanston, WY.

Nature of Requirement: HUD's regulation at 24 CFR 982.517(d) requires a public housing agency (PHA) to use the appropriate utility allowance for the size of the dwelling unit actually leased by the family rather than the family unit size as determined by the PHA subsidy standards and specified on the voucher.

Granted By: Sandra B. Henriquez, Assistant Secretary for Public and Indian Housing.

Date Granted: September 10, 2012.

Reason Waived: This waiver was granted because this cost-saving measure would enable the EHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4216, Washington, DC 20410, telephone (202) 708-0477.

• Regulation: 24 CFR 982.637(a)(2).

Project/Activity: Chicago Housing Authority (CHA), Chicago, IL.

Nature of Requirement: 24 CFR 982.637(a)(2) states that a public housing agency may not commence tenant-based rental assistance for occupancy of a new unit so long as any family member owns any title or other interest in the prior home.

Granted By: Sandra B. Henriquez, Assistant Secretary for Public and Indian Housing.

Date Granted: August 14, 2012.

Reason Waived: This waiver was granted due to safety concerns under the Violence Against Women Act and to allow the family to remain assisted.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 983.253(b).

Project/Activity: Louisiana Housing Authority (LHA), Baton Rouge, LA.

Nature of Requirement: HUD's regulation at 24 CFR 983.253(b) states that the project-based voucher (PBV) contract unit leased to each family must be appropriate for the size of the family under the public housing agency's subsidy standards.

Granted By: Sandra B. Henriquez, Assistant Secretary for Public and Indian Housing.

Date Granted: September 5, 2012.

Reason Waived: This waiver was extended to allow one-bedroom eligible families to lease two-bedroom units based on the continued need to house severely disabled households under the LHA's PBV permanent supportive housing program.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 984.303(d).

Project/Activity: Vermont State Housing Authority (VSHA), Montpelier, VT.

Nature of Requirement: HUD's regulation at 24 CFR 984.303(d) limits the extension of a family self-sufficiency (FSS) contract by a public housing agency to two years beyond the initial five-year term of a new unit so long as any family member owns any title or other interest in the prior home.

Granted By: Sandra B. Henriquez, Assistant Secretary for Public and Indian Housing.

Date Granted: July 26, 2012.

Reason Waived: This waiver was granted due to allow the FSS participant to complete her education and employment goals. An additional two years was granted.

Contact: Laure Rawson, Director, Housing Voucher Management and Operations Division, Office of Public Housing and Voucher Programs, Office of Public and Indian Housing, Department of Housing and Urban Development, 451 Seventh Street SW., Room 4210, Washington, DC 20410, telephone (202) 708-0477.

[FR Doc. 2012-29128 Filed 12-4-12; 8:45 am]

BILLING CODE 4210-67-P